DEPARTMENT OF COMMERCE

National Oceanic and Atmospheric Administration

Renewal of the Advisory Committee on Excellence in Space, Formerly the Advisory Committee on Commercial Remote Sensing

ACTION: Notice.

SUMMARY: In accordance with the provisions of the Federal Advisory Committee Act, as amended (FACA), the Department of Commerce has renewed and renamed the Advisory Committee on Commercial Remote Sensing (ACCRES) as the Advisory Committee on Excellence in Space (ACES), determining this action to be in the public interest in connection with the performance of duties imposed on the Department by law. ACCRES was renewed and renamed as ACES on March 4, 2024.

SUPPLEMENTARY INFORMATION: The Committee was first established in May 2002 to advise the Under Secretary of Commerce for Oceans and Atmosphere on matters relating to the U.S. commercial remote sensing industry and NOAA's activities to carry out the responsibilities of the Department of Commerce set forth in the National and Commercial Space Programs Act of 2010 (the Act), title 51 U.S.C. 60101 et seq. (formerly the Land Remote Sensing Policy Act of 1992, 15 U.S.C. 5621-5625).

ACES will have a fairly balanced membership consisting of no more than 25 members serving in a representative or Special Government Employee capacity. The members should represent a variety of space policy, engineering, technical, science, legal, and finance professionals with significant expertise in the commercial space industry. Each candidate member shall be recommended by the Director of NOAA's Office of Space Commerce (OSC) and shall be appointed by the Under Secretary or the OSC Director, generally for a term of two years and serve at the discretion of the Under Secretary or OSC Director.

The Committee will function solely as an advisory body, and in compliance with provisions of the Federal Advisory Committee Act. Copies of the Committee's revised Charter have been filed with the appropriate committees of the Congress and with the Library of Congress.

FOR FURTHER INFORMATION CONTACT: Jason Y. Kim, Chief of Staff, NOAA Office of Space Commerce, 1401 Constitution Ave. NW, Room 68015, Washington, DC 20230; telephone 202-482-6125; email space.commerce@noaa.gov.

Michael C. Morgan,
Assistant Secretary for Environmental Observation and Prediction.

[FR Doc. 2024-05284 Filed 3-12-24; 8:45 am]

BILLING CODE 3510-01-P